DEPARTMENT OF AGRICULTURE

Animal and Plant Health Inspection Service

[Docket No. APHIS-2019-0048]

Notice of Availability of a Final Environmental Assessment and Finding of No Significant Impact for the Release of Sericothrips staphylinus for Biological Control of Gorse

AGENCY: Animal and Plant Health Inspection Service, USDA.

ACTION: Notice of availability.

SUMMARY: We are advising the public that we have prepared an environmental assessment and finding of no significant impact relative to permitting the release of Sericothrips staphylinus for the biological control of gorse, a spiny shrub, within the contiguous United States. Based on our finding of no significant impact, we have determined that an environmental impact statement need not be prepared.

FOR FURTHER INFORMATION CONTACT: Dr. Colin D. Stewart, Assistant Director, Pests, Pathogens, and Biocontrol Permits, Permitting and Compliance Coordination, PPQ, APHIS, 4700 River Road Unit 133, Riverdale, MD 20737-1231; (301) 851-2327; email: Colin.Stewart@usda.gov.

SUPPLEMENTARY INFORMATION: During the late 1800s, gorse was introduced into North America from Western Europe. Gorse (Ulex eurpaeus) is a spiny shrub found in eastern States, Washington, Oregon, California, and Hawaii. This plant is most often a pest of disturbed sites in open wild or less- developed areas where management is minimal or non-existent. Gorse's invasiveness is most prolific in the maritime climate within a few miles of the ocean, where sandy soils and rocky outcrops are especially vulnerable to invasion. Gorse's impacts include displacement of native plants, including forest tree saplings, reduction in the quality of wildlife habitats, increased fire hazard, interference in rights-of-way and recreation sites, and reduced livestock forage production.

The insect Sericothrips staphylinus was chosen as a potential biological control agent. Although specific information as to the extent of its range has been difficult to obtain, the native distribution of the agent is assumed to overlap with the majority of the range of gorse in Europe.

On August 20, 2019, we published in the Federal Register (84 FR 43099, Docket No. APHIS-2019-0048) a notice ¹ in which we announced the availability, for public review and comment, of an environmental assessment (EA) that examined the potential environmental impacts associated with the release of Sericothrips staphylinus for the biological control of gorse within the contiguous United States.

¹ To view the notice, supporting documents, and the comments we received, go to http://www.regulations.gov/#!docketDetail;D=APHIS-2019-0048.

We solicited comments on the EA for 30 days ending September 19, 2019. We received 10 comments by that date. Eight of those comments were in favor of the release of the biological control agent. Two commenters were not in favor of the biological control agent and raised concerns regarding the release of the insect. These comments are addressed in Appendix 5 of the final EA.

In this document, we are advising the public of our finding of no significant impact (FONSI) regarding the release of Sericothrips staphylinus for the biological control of gorse within the contiguous United States. The finding, which is based on the EA, reflects our determination that release of the Sericothrips staphylinus will not have a significant impact on the quality of the human environment. Concurrent with this announcement, we will issue a permit for the release of Sericothrips staphylinus for the biological control of gorse.The EA and FONSI may be viewed on the Regulations.gov website (see footnote 1). Copies of the EA and FONSI are also available for public inspection at USDA, Room 1141, South Building, 14th Street and Independence Avenue SW, Washington, DC, between 8 a.m. and 4:30 p.m., Monday through Friday, except holidays. Persons wishing to inspect copies are requested to call ahead on (202) 799-7039 to facilitate entry into the reading room. In addition, copies may be obtained by calling or writing to the individual listed under FOR FURTHER INFORMATION CONTACT.

The EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 8th day of April 2020.
Michael Watson,
Acting Administrator, Animal and Plant Health Inspection Service.

[FR Doc. 2020-09102 Filed 4-28-20; 8:45 am]

BILLING CODE 3410-34-P